DEPARTMENT OF TRANSPORTATION

Federal Aviation Administration

Notice of Passenger Facility Charge (PFC) Approvals and Disapprovals

AGENCY: Federal Aviation Administration (FAA), DOT.

ACTION: Monthly Notice of PFC approvals and disapprovals. In July 2001, there were 15 applications approved. This notice also includes information on one application, approved in May 2001, inadvertently left off the May 2001 notice. Additionally, 27 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Monroe County Board of County Commissioners, Key West, Florida.

Application Number: 01-05-C-00-EYW.

Application Type: Impose and use a PFC.

PFC Level: $3.00.

Total PFC Revenue Approved in this Decision: $1,631,431.

Earliest Charge Effective Date: August 1, 2001.

Estimated Charge Expiration Date: April 1, 2004.

Class of Air Carriers Not Required To Collect PFC's:

Non scheduled/on-demand air carriers filing FAA Form 1800-31.

Determination: Approved. Based on information contained in the public agency's application, the FAA has determined that the approved class accounts for less than 1 percent of the total annual enplanements at Key West International Airport (EYW).

Brief Description of Projects Approved for Collection and Use at EYW:

—PFC application and administration.

—Construct general aviation aprons (phases 1 and 2).

—Runway safety area study.

—Terminal modifications.

—Install standby generator.

—Update master plan and airport layout plan.

—Environmental mitigation runway 9.

—Rehabilitate airport beacon tower and replace beacon.

—T-Hangar taxiway development.

—Construct general aviation aircraft apron.

—Runway 9/27 runway protection zone and runway safety area clearing.

—Sealcoat air carrier and general aviation apron.

—Acquire runway protection zone land—runway 27.

Brief Description of Projects Approved for Collection at EYW and Use at Marathon Airport:

—Install precision approach path indicators, runway 7/25.

—Mark runway 7/25.

—Update master plan and airport layout plan.

—Construct T-Hangar taxiways.

—Construct aircraft parking apron.

—Construct aircraft rescue and firefighting building.

—Runway safety area study.

Decision Date: May 31, 2001.

FOR FURTHER INFORMATION CONTACT: Matthew J. Thys, Orlando Airports District Office, (407) 812-6331, ext. 21.

Public Agency: Melbourne Airport authority, Melbourne, Florida.

Application Number: 01-05-C-00-MLB.

Application Type: Impose and use a PFC.

PFC Level: $3.00.

Total PFC Revenue Approved in this Decision: $1,193,528.

Earliest Charge Effective Date: September 1, 2001.

Estimated Charge Expiration Date: April 1, 2003.

Class of Air Carriers Not Required To Collect PFC's: Air taxi/commercial operators.

Determination: Approved. Based on information contained in the public agency's application, the FAA has determined that the approved class accounts for less than 1 percent of the total annual enplanements at Melbourne International Airport.

Brief Description of Projects Approved for Collection and Use:

—Extend runway 9R/27L.

—Interior service road, phase 1.

—Acquire aircraft loading bridge.

—Wetland inventory and mitigation plan.

—Environmental permitting.

—Acquire flight information display.

—Auxiliary departure lounge.

Decision Date: July 2, 2001.

FOR FURTHER INFORMATION CONTACT: Armando L. Rovira, Orlando airports District Office, (407) 812-6331, ext. 31.

Public Agency: City of Chico, California.

Application Number: 01-04-C-00-CIC.

Application Type: Impose and use a PFC.

PFC Level: $3.00.

Total PFC Revenue Approved in this Decision: $536,747.

Earliest Charge Effective Date: November 1, 2001.

Estimated Charge Expiration Date: September 1, 2006.

Class of Air Carriers Not Required To Collect PFC's: None.

Brief Description of Projects Approved for Collection and Use:

—Access road and drainage facilities between Fortress Street and aircraft parking apron development including complete engineering design and construction.

—Rehabilitate underground electrical duct and cable system—electrical vault to terminal to air traffic control tower to apron edge.

—Runway 13L/31R pavement rehabilitation.

—Fortress Street overlay and reconstruction.

—Commercial road development—road construction and gate controls—Boeing Avenue, Convair Court, Fairchild Court, Lockheed Court, Piper Court, and Alley Road.

—New airfield sweeper.

—Replace airfield guidance signs and noise abatement signs.

—Overlay runway 13R/31L, overlay taxiway B, D, E, and F between parallel runways.

—Expand T-Hanger area taxiway and connect T-Hanger Taxiway to taxiway A.

—Acquire insulation suits for aircraft rescue and firefighting personnel.

—Airport master plan study.

—Infield grading.

—Extend security fence ditch crossings.

—Improve emergence access and service road to west side of airport.

—Installation of automated weather observation system.

Decision Date: July 3, 2001.

FOR FURTHER INFORMATION CONTACT: Marlys Vandervelde, San Francisco Airports District Office, (650) 876-2806.

Public Agency: Walker Field Airport Authority, Grand Junction, Colorado.

Application Number: 01-04-00-GJT.

Application Type: Impose and use a PFC.

PFC Level: $3.00.

Total PFC Revenue Approved in this Decision: $1,730,000.

Earliest Charge Effective Date: April 1, 2003.

Estimated Charge Expiration Date: March 1, 2008.

Class of Air Carriers Not Required To Collect PFC's: None.

Brief Description of Projects Approved for Collection and Use:

—Runway 4/22 runway end identification lights.

—Electrical vault replacement.

Brief Description of Projects Approved for Collection:

—Air carrier ramp expansion.

—Expand terminal building boarding area/concourses/loading bridges.

Decision Date: July 10, 2001.

FOR FURTHER INFORMATION CONTACT: Chris Schaffer, Denver Airports

District Office, (303) 342-1258.

Public Agency: Yakima Air Terminal Board, Yakima, Washington.

Application Number: 01-06-U-00-YKM.

Application Type: Use PFC revenue.

PFC Level: $3.00.

Total PFC Revenue To Be Used in This Decision: $182,313.

Charge Effective Date: June 1, 2000.

Charge Expiration Date: August 1, 2002.

Class of Air Carriers Not Required To Collect PFC's: No change from previous decision.

Brief Description of Project Approved for Use:

—Construct west perimeter access/aircraft rescue and firefighting road.

Decision Date: July 10, 2001.

FOR FURTHER INFORMATION CONTACT: Suzanne Lee-Pang, Seattle Airports District Office, (425) 227-2654.

Public Agency: Tweed-New Haven Airport Authority, New Haven, Connecticut.

Application Number: 01-02-C-00-HVN.

Application Type: Impose and use a PFC.

PFC Level: $4.50.

Total PFC Revenue Approved in this Decision: $1,963,265.

Earliest Charge Effective Date: October 1, 2001.

Estimated Charge Expiration Date: November 1, 2007.

Class of Air Carriers Not Required To Collect PFC's: Air taxi/commercial operators, nonscheduled/on-demand air carriers.

Determination: Approved. Based on information contained in the public agency's application, the FAA has determined that the proposed class accounts for less than 1 percent of the total annual enplanements at Tweed-New Haven Airport.

Brief Description of Projects Approved for Collection and Use:

—Aircraft rescue and firefighting building.

—Permitting—runway 2/20 safety areas.

—Master plan update.

—Reconstruction of a portion of runway 14.32.

—Snow removal equipment.

—Terminal apron glycol recovery system study.

—Obstruction removal: phase 1 (analysis).

Brief Description of Projects Approved for Collection:

—Runway protection zone land acquisition.

—Design and construction of runway 2/20 safety areas and extension of taxiway B.

—Perimeter security fencing.

—Rehabilitation of runway 2/20.

Decision Date: July 12, 2001.

FOR FURTHER INFORMATION CONTACT: Priscilla A. Scott, New England Region Airports Division, (781) 238-7614.

Public Agency: Bloomington Normal Airport Authority, Bloomington, Illinois.

Application Number: 01-04-C-00-BMI.

Application Type: Impose and use a PFC.

PFC Level: $4.50.

Total PFC Revenue Approved in this Decision: $1,161,019.

Earliest Charge Effective Date: October 1, 2017.

Estimated Charge Expiration Date: June 1, 2018.

Class of Air Carriers Not Required To Collect PFC's:

—Nonscheduled/on-demand operators filing FAA Form 1800-31.

Determination: Approved. Based on information contained in the public agency's application, the FAA has determined that the proposed class accounts for less than 1 percent of the total annual enplanements at Central Illinois Regional Airport.

Brief Description of Projects Approved for Collection and Use:

—PFC program development.

—Apron and taxiways—new terminal building.

—Passenger loading bridges—new terminal building.

Decision Date: July 16, 2001.

FOR FURTHER INFORMATION CONTACT: Denis Rewerts, Chicago Airports District Office, (847) 294-7195.

Public Agency: Tri-State Airport Authority, Huntington, West Virginia.

Application Number: 01-04-C-00-HTS.

Application Type: Impose and use a PFC.

PFC Level: $3.00.

Total PFC Revenue Approved in this Decision: $451,906.

Earliest Charge Effective Date: April 1, 2002.

Estimated Charge Expiration Date: December 1, 2004.

Classes of Air Carriers Not Required To Collect PFC's:

(1) Nonscheduled/on-demand air carriers; and (2) large charter certificated route air carriers.

Determination: Approved. Based on information contained in the public agency's application, the FAA has determined that each proposed class accounts for less than 1 percent of the total annual enplanements at Tri-State Airport.

Brief Description of Projects Approved for Collection and Use:

—Preparation of PFC application.

—Wildlife/security fencing.

—Reconstruction of taxiway A.

—Airport master plan update.

—Terminal improvements.

—Wildlife hazard assessment.

—Design and rehabilitate runway 12/30.

Decision Date: July 16, 2001.

FOR INFORMATION CONTACT: Larry Clark, Beckley Airports Field Office, (304) 252-6216.

Public Agency: City of Cody, Wyoming.

Application Number: 01-03-C-00-COD.

Application Type: Impose and use a PFC.

PFC level: $4.50.

Total PFC Revenue Approved in this Decision: $294,000.

Earliest Charge Effective Date: March 1, 2002.

Estimated Charge Expiration Date: March 1, 2004.

Class of Air Carriers Not Required To Collect PFC's: Non-scheduled, on-demand air carriers filing FAA Form 1800-31.

Determination: Approved. Based on information contained in the public agency's application, the FAA has determined that the proposed class accounts for less than 1 percent of the total annual enplanements at Yellowstone Regional Airport.

Brief Description of Projects Approved for Collection and Use:

—Acquisition of airfield equipment.

—Ramp expansion.

Brief Description of Projects Approved for Use:

—Encasement of irrigation canal.

—Relocation/reconstruction of parallel taxiway.

Decision Date: July 16, 2001.

FOR FURTHER INFORMATION CONTACT: Chris Schaffer, Denver Airports District Office, (303) 342-1258.

Public Agency: City of San Jose, California.

Application Number: 01-12-C-00-SJC.

Application Type: Impose and use a PFC.

PFC level: $4.50.

Total PFC Revenue Approved in this Decision: $9,407,000.

Earliest Charge Effective Date: February 1, 2008.

Estimated Charge Expiration Date: September 1, 2008.

Class of Air Carriers Not Required To Collect PFC's:

—Nonscheduled/on-demand air carriers filing FAA Form 1800-31.

Determination: Approved. Based on information contained in the public agency's application, the FAA has determined that the proposed class accounts for less than 1 percent of the total annual enplanements at San Jose International Airport.

Brief Description of Project Approved for Collection and Use:

—Runway 12R/30L extension.

Brief Description of Project Approved for Use:

—Runway 12R/30L reconstruction.

Decision Date: July 20, 2001.

FOR FURTHER INFORMATION CONTACT: Marlys Vandervelde, San Francisco Airports District Office, (650) 876-2806.

Public Agency: County of Houghton, Hancock, Michigan.

Application Number: 01-08-C-00-CMX.

Application Type: Impose and use a PFC.

PFC level: $3.00.

Total PFC Revenue Approved in this Decision: $254,644.

Earliest Charge Effective Date: August 1, 2001.

Estimated Charge Expiration Date: October 1, 2005.

Class of Air Carriers Not Required To Collect PFC's: None.

Brief Description of Projects Approved for Collection and Use:

—PFC application preparation.

—Rehabilitate runway 13/31 and relocate high intensity runway lights.

Decision Date: July 23, 2001.

FOR FURTHER INFORMATION CONTACT: Arlene Draper, Detroit Airports District Office, (734) 487-7282.

Public Agency: City of Lewiston and Nez Perce County, Lewiston, Idaho.

Application Number: 01-03-C-00-LWS.

Application Type: Impose and use a PFC.

PFC level: $4.50.

Total PFC Revenue Approved in this Decision: $1,171,746.

Earliest Charge Effective Date: October 1, 2006.

Estimated Charge Expiration Date: July 1, 2016.

Class of Air Carriers Not Required To Collect PFC's:

—Nonscheduled air taxi/commercial operators utilizing aircraft having a seating capacity of less than 20 passengers.

Determination: Approved. Based on information contained in the public agency's application, the FAA has determined that the proposed class accounts for less than 1 percent of the total annual enplanements at Lewiston-Nez Perce County Regional Airport.

Brief Description of Projects Approved for Collection and Use:

—Security perimeter fencing.

—Reconstruct a portion of taxiway B, rehabilitate a portion of taxiways A and B.

—Airport signing project.

—Procurement of aircraft rescue and firefighting truck and equipment.

—Master plan.

—Reconstruct taxiway B, phase II and construction of taxiway M.

—Acquisition of a passenger lift device.

—Reconstruct taxiway B, phase II, and rehabilitation of terminal ramp.

—Construction of midfield taxiway and rehabilitation of runway 11/29.

—Security gates.

—Precision approach path indicator installation on runways 11/29 and 8/26.

—Construct safety area for runway 8 approach and Part 77 obstruction removal.

Decision Date: July 24, 2001.

FOR FURTHER INFORMATION CONTACT: Suzanne Lee-Pang, Seattle Airports District Office, (425) 227-2654.

Public Agency: County of Delta, Escanaba, Michigan.

Application Number: 01-06-C-00-ESC.

Application Type: Impose and use a PFC.

PFC Level: $3.00.

Total PFC Revenue Approved in this Decision: $117,900.

Earliest Charge Effective Date: October 1, 2001.

Estimated Charge Expiration Date: April 1, 2003.

Class of Air Carriers Not Required To Collect PFC's: Air taxis/charters.

Determination: Approved. Based on information contained in the public agency's application, the FAA has determined that the proposed class accounts for less than 2 percent of the total annual enplanements at Delta County Airport.

Brief Description of Projects Approved for Collection and Use:

—Construct and light (medium intensity taxiway lights) north/south parallel taxiway.

—Design for rehabilitation of runway 9/27.

—Wildlife management plan.

Brief Description of Project Approved for Collection: Construct runway safety area for runway 9.

Decision Date: July 25, 2001.

FOR FURTHER INFORMATION CONTACT: Arlene Draper, Detroit Airports District Office, (734) 487-7282.

Public Agency: Monterey Peninsula Airport District, Monterey, California.

Application Number: 01-07-C-00-MRY.

Application Type: Impose and use a PFC.

PFC Level: $4.50.

Total PFC Revenue Approved in this Decision: $381,935.

Earliest Charge Effective Date: October 1, 2001.

Estimated Charge Expiration Date: March 1, 2002.

Class of Air Carriers Not Required To Collect PFC's: Unscheduled Part 135 air taxi operators.

Determination: Approved. Based on information contained in the public agency's application, the FAA has determined that the proposed class accounts for less than 1 percent of the total annual enplanements at Monterey Peninsula Airport.

Brief Description of Projects Approved for Collection and Use:

—Acquire aircraft rescue and firefighting equipment.

—Modify aircraft rescue and firefighting vehicle cooling system.

—Lower obstruction to runway 10R obstacle free zone.

—Reconstruct portion of entrance road to north side.

—Purchase runway sweeper.

—Soundproofing, phases 6 and 7.

—Replace terminal fire doors.

—Realign and improve Sky Park-Fred Kane Drive extension.

—Environmental impact report/environmental assessment for Sky Park Drive extension to north side of airport.

Decision Date: July 27, 2001.

FOR FURTHER INFORMATION CONTACT: Marlys Vandervelde, San Francisco Airports District Office, (650) 876-2806.

Public Agency: San Francisco Airport Commission, San Francisco.

Application Number: 01-01-C-00-SFO.

Application Type: Impose and use a PFC.

PFC Level: $4.50.

Total PFC Revenue Approved in this Decision: $112,738,745.

Earliest Charge Effective Date: October 1, 2001.

Estimated Charge Expiration Date: June 1, 2003.

Class of Air Carriers Not Required To Collect PFC's: Nonscheduled/on-demand air carriers filing FAA Form 1800-31.

Determination: Approved. Based on information contained in the public agency's application, the FAA has determined that the proposed class accounts for less than 1 percent of the total annual enplanements at San Francisco International Airport.

Brief Description of Project Approved for Collection and Use:

—Project development costs associated with the reconfiguration of runways.

Decision Date: July 27, 2001.

FOR FURTHER INFORMATION CONTACT: Marlys Vandervelde, San Francisco Airports District Office, (650) 876-2806.

Public Agency: Allegheny County Airport Authority, Pittsburgh, Pennsylvania.

Application Number: 01-01-C-00-PIT.

Application Type: Impose and use a PFC.

PFC Level: $3.00.

Total PFC Revenue Approved in this Decision: $119,803,191.

Earliest Charge Effective Date: October 1, 2001.

Estimated Charge Expiration Date: October 1, 2006.

Class of Air Carriers Not Required To Collect PFC's: Non-scheduled, on-demand air carriers filing FAA Form 1800-31.

Determination: Approved. Based on information contained in the public agency's application, the FAA has determined that the proposed class accounts for less than 1 percent of the total annual enplanements at Pittsburgh International Airport.

Brief Description of Projects Approved for Collection and Use:

—Runway 10L rehabilitation and safety area improvements.

—Expand and upgrade deicing facilities.

—Install non-exclusive baggage devices.

—Residential sound insulation, phases 5 and 6.

—Taxiways F and P rehabilitation.

—Relocate runway 10R/28L electrical field vault.

—Install runway 14/32 lighting and miscellaneous airfield lighting.

—Asphalt/concrete rehabilitation program—taxiways, aprons, aircraft rescue and firefighting road.

—Asphalt/concrete rehabilitation program—terminal roadway.

—Master plan update.

—Acquire snow removal equipment.

—Acquire aircraft rescue and firefighting equipment.

—Acquire Part 107 police equipment.

—Acquire Part 139 airfield equipment.

—Construct Part 139 command center, phase 1.

—Command center and equipment, phase 2.

—Relocation of taxiway E—design.

—Replace airfield sand/chemical storage dome.

—Install midfield heating, ventilation, and air conditioning uninterrupted power supply.

—Construct moving walkway, concourse D.

—Mineral Estates condemnation program.

—Install public roadway signage.

—Install walkway canopies.

—Install public information center.

—Acquire airfield driving training simulator.

—Environmental assessment mitigation.

—Upgrade and expand surface sensor system.

—Improve fire system pumphouse facilities and systems.

—Competition plan.

—PFC application development.

Brief Description of Projects Approved for Collection:

—Widen taxiway Y.

—Construct snow removal equipment storage building.

—Improve runway safety areas for runways 10L/28R and 10R/28L.

—Replace security fence.

Decision Date: July 27, 2001.

FOR FURTHER INFORMATION CONTACT: Patrick J. Sullivan, Harrisburg Airports District Office (717) 730-2832.

Amendments to PFC Approvals
Amendment No., City, State | Amendment approved date | Original approved Net PFC revenue | Amended approved Net PFC revenue | Original estimated charge exp. date | Amended estimated charge exp. date
*97-02-C-03-DSM Des Moines, IA | 05/18/01 | $9,786,654 | $9,874,583 | 06/01/02 | 05/01/02
*98-03-C-02-DSM Des Moines, IA | 05/18/01 | 7,766,744 | 7,899,744 | 03/01/05 | 05/01/04
*99-04-C-01-DSM Des Moines, IA | 05/18/01 | 1,850,000 | 1,850,000 | 03/01/06 | 11/01/04
*00-05-C-01-DSM Des Moines, IA | 05/18/01 | 1,150,000 | 1,150,000 | 11/01/06 | 03/01/05
*98-02-C-01-TXK Texarkana, AR | 06/22/01 | 412,532 | 412,532 | 05/01/03 | 08/01/04
99-08-C-02-SJC San Jose, CA | 07/06/01 | 23,598,000 | 36,880,000 | 11/01/02 | 04/01/03
00-01-C-01-FHR Friday Harbor, WA | 07/12/01 | NA | NA | 11/01/05 | 11/01/05
96-03-C-01-MEI Meridian, MS | 07/16/01 | 250,620 | 250,620 | 06/01/00 | 06/01/00
97-04-C-02-MEI Meridian, MS | 07/16/01 | 45,000 | 32,904 | 12/01/00 | 10/01/00
98-04-C-01-SEA Seattle, WA | 07/16/01 | 806,157,000 | 756,657,000 | 01/01/23 | 03/01/20
*92-01-C-05-DTW Detroit, MI | 07/17/01 | 1,604,483,000 | 1,604,483,000 | 10/01/29 | 05/01/18
93-01-C-12-ORD Chicago, IL | 07/18/01 | 1,011,764,738 | 1,225,873,994 | 04/01/16 | 10/01/18
95-03-C-05-ORD Chicago, IL | 07/18/01 | NA | NA | 04/01/16 | 10/01/18
96-05-C-06-ORD Chicago, IL | 07/18/01 | 441,595,749 | 457,714,130 | 04/01/16 | 10/01/18
98-07-C-02-ORD Chicago, IL | 07/18/01 | 52,903,281 | 54,825,408 | 04/01/16 | 10/01/18
01-12-C-01-ORD Chicago, IL | 07/18/01 | 1,486,284,358 | 1,594,827,790 | 04/01/16 | 10/01/18
** 01-11-C-00-SJC San Jose, CA | 07/19/01 | 123,736,491 | NA | 02/01/08 | NA
* 97-01-C-01-GPZ Grand Rapids, MN | 07/19/01 | 1,297,059 | 1,297,059 | 05/01/31 | 07/01/21
* 93-01-C-01-FNT Flint, MI | 07/20/01 | 32,296,450 | 31,865,870 | 09/01/30 | 01/01/18
97-01-C-02-OKC Oklahoma City, OK | 07/20/01 | 10,121,875 | 9,259,698 | 06/01/99 | 03/01/99
** 01-08-C-00-PDX Portland, OR | 07/20/01 | 551,029,000 | NA | 05/01/16 | NA
* 95-03-C-02-SEA Seattle, WA | 07/23/01 | 288,930,000 | 288,930,000 | 01/01/04 | 03/01/03
* 99-03-C-01-PSC Pasco, WA | 07/24/01 | 740,000 | 740,000 | 12/01/03 | 12/01/02
* 93-01-I-01-ALW Walla Walla, WA | 07/26/01 | 1,187,280 | 3,745,775 | 11/01/14 | 10/01/19
97-02-U-01-ALW Walla Walla, WA | 07/26/01 | NA | NA | 11/01/14 | 10/01/19
* 95-01-C-01-MCW Mason City, IA | 07/27/01 | 302,790 | 302,790 | 08/01/01 | 04/01/03
* 98-02-C-01-ACT Waco, TX | 07/31/01 | 2,081,400 | 2,081,400 | 06/01/03 | 12/01/08
Notes: 1. The amendments denoted by an asterisk (*) include a change to the PFC level charged from $3.00 per enplaned passenger to $4.50 per enplaned passenger. For Des Moines, IA this change is effective on August 1, 2001. For Mason City, IA, Detroit, MI, Flint, MI, Grand Rapids, MN, Portland, OR, Waco, TX, Pasco, WA, Seattle, WA, and Walla Walla, WA, this change is effective on October 1, 2001.
2. The amendments denoted by a double asterisk (**) are amendments which result in a new Record of Decision being issued to consolidate two or more prior Records in order to achieve a uniform PFC level.

Issued in Washington, DC on August 27, 2001.
Eric Gabler,
Manager, Passenger Facility Charge Branch.

[FR Doc. 01-22043 Filed 8-30-01; 8:45 am]

BILLING CODE 4910-13-M